DEPARTMENT OF ENERGY

Federal Energy Regulatory Commission

[Docket Nos. RP00-393-002 and RP01-43-003]

Eastern Shore Natural Gas Company; Notice of Compliance Filing

October 30, 2002.

Take notice that on October 28, 2002 Eastern Shore Natural Gas Company (Eastern Shore) submitted its Order No. 637 Compliance Filing as directed by the Commission in compliance with the Commission's letter order issued on October 11, 2002 in the above-referenced dockets.

Eastern Shore states such order directed it to file actual tariff sheets to replace the Pro Forma tariff sheets originally filed by Eastern Shore on August 19, 2002. The Commission also directed Eastern Shore to make such tariff sheets effective on November 1, 2002.

Eastern Shore states that copies of its filing has been mailed to its customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The Commission strongly encourages electronic filings. See, 18 CFR 385.2001(a)(1)(iii) and the instructions on the Commission's Web site under the “e-Filing” link.

Linwood A. Watson, Jr.,
Deputy Secretary.

[FR Doc. 02-28173 Filed 11-4-02; 8:45 am]

BILLING CODE 6717-01-P